NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register on December 12, 2017, and no comments were received. NSF is forwarding the proposed renewal submission to the Office of Management and Budget (OMB) for clearance simultaneously with the publication of this second notice. The full submission may be found at: http://www.reginfo.gov/public/do/PRAMain.

Comments: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

FOR FURTHER INFORMATION CONTACT: Comments should be addressed to: Office of Information and Regulatory Affairs of OMB, Attention: Desk Officer for National Science Foundation, 725 7th Street NW, Room 10235, Washington, DC 20503, and to Suzanne H. Plimpton, Reports Clearance Officer, National Science Foundation, 2415 Eisenhower Avenue, Room W18000, Alexandria, Virginia 22314, or send email to splimpto@nsf.gov. Copies of the submission may be obtained by calling Ms. Plimpton at (703) 292-7556. Individuals who use a telecommunications device for the deaf (TDD) may call the Federal Information Relay Service (FIRS) at 1-800-877-8339, which is accessible 24 hours a day, 7 days a week, 365 days a year (including federal holidays).

NSF may not conduct or sponsor a collection of information unless the collection of information displays a currently valid OMB control number and the agency informs potential persons who are to respond to the collection of information that such persons are not required to respond to the collection of information unless it displays a currently valid OMB control number.

SUPPLEMENTARY INFORMATION: Title: Hispanic-Serving Institutions (HSI) Certification Form.

OMB Control Number: 3145—NEW.

Abstract: To enhance the quality of undergraduate STEM education at Hispanic-serving institutions (HSIs), the National Science Foundation (NSF) established the Improving Undergraduate STEM Education: Hispanic-Serving Institutions (HSI Program), in response to the Consolidated Appropriations Act, 2017 (Pub. L. 115-31) and the American Innovation and Competitiveness Act (Pub. L. 114-329). The lead institution submitting a proposal to the HSI Program must be an HSI as defined by law in section 502 of the Higher Education Act of 1965 (20 U.S.C. 1101a) (http://legcounsel.house.gov/Comps/HEA65_CMD.pdf). Hence there is a need for institutions to self-certify via an HSI Certification Form (NSF Form Number 1715).

Expected respondents: Hispanic-Serving Institutions.

Estimate of burden: We anticipate 175 proposals for 2 minutes which is approximately 6 hours.

Dated: February 12, 2018.
Suzanne H. Plimpton,
Reports Clearance Officer, National Science Foundation.

[FR Doc. 2018-03125 Filed 2-14-18; 8:45 am]

BILLING CODE 7555-01-P